DEPARTMENT OF THE INTERIOR

Bureau of Indian Affairs

Submission of Collection of Water Delivery and Electric Service Data for the Operation of Irrigation and Power Projects and Systems to Office of Management and Budget

AGENCY: Bureau of Indian Affairs, Interior.

ACTION: Notice.

SUMMARY: In compliance with the Paperwork Reduction Act of 1995 (44 U.S.C. 3501 et seq.), the Bureau of Indian Affairs (BIA) is submitting two information collection requests for extension to the Office of Management and Budget. The two collections are: Electrical Service Application, 1076-0021, and Water Request, 1076-0141.

DATES: Comments must be received on or before March 10, 2003, to be assured of consideration.

ADDRESSES: Comments should be sent to: Attn: Desk Officer for Department of the Interior, Office of Information and Regulatory Affairs, OMB, 725 17th Street NW., Washington, DC 20503. Send a copy to Bureau of Indian Affairs, Branch of Irrigation, Power, and Safety of Dams, Mail Stop 3061-MIB, Washington, DC 20240.

FOR FURTHER INFORMATION CONTACT: Interested persons may obtain copies of the information collection requests without charge by contacting Ross Mooney at 202-208-5480, or facsimile number: 202-219-0006, or E-mail: Ross_Mooney@IOS.DOI.GOV.

SUPPLEMENTARY INFORMATION: A request for comments regarding the two information collection requests was published in the Federal Register on October 1, 2002 (67 FR 61760). No comments were received during the comment period. We reviewed these two forms internally during the comment period and revised our burden hours for the two collections.

Request for Comments

The Bureau of Indian Affairs solicits comments in order to:

(1) Evaluate whether the proposed collection of information is necessary for the proper performance of the functions of the bureau, including whether the information will have practical utility;

(2) Evaluate the bureau's estimate of the burden of the proposed collection of information, including the validity of the methodology and assumptions used;

(3) Enhance the quality, utility, and clarity of the information to be collected; and

(4) Minimize the burden of the collection of information on those who are to respond.

OMB has up to 60 days to approve or disapprove the information collection but may respond after 30 days; therefore, comments submitted within 30 days are more assured of receiving maximum consideration. Please note that comments, names and addresses of commentators are available for public review during normal business hours. If you wish us to withhold any information you submit, you must state this prominently at the beginning of your comment. We will honor your request to the extent allowable by law.

Title: Water Request 25 CFR 171.

OMB Control #: 1076-0141.

Frequency of Collection: On occasion.

Description of Respondents: BIA Irrigation Project Water Users.

Total Respondents: 25,000.

Total Annual Responses: 51,500.

Total Annual Burden Hours: 4292.

Title: Electric Service Application—25 CFR 175.

OMB Control #: 1076-0021.

Frequency of Collection: On Occasion.

Description of Respondents: BIA Electric Power Consumers.

Total Respondents: 4,750.

Total Annual Responses: 4750.

Total Annual Burden Hours: 1188.

Dated: January 2, 2003.
Aurene M. Martin,
Acting Assistant Secretary—Indian Affairs.

[FR Doc. 03-2991 Filed 2-6-03; 8:45 am]

BILLING CODE 4310-W7-P